NUCLEAR REGULATORY COMMISSION

10 CFR Part 50

[Docket No. PRM-50-111; NRC-2015-0124]

Power Reactor In-Core Monitoring

AGENCY: Nuclear Regulatory Commission.

ACTION: Petition for rulemaking; notice of docketing.

SUMMARY: The U.S. Nuclear Regulatory Commission (NRC) has received a petition for rulemaking (PRM) requesting that the NRC amend its “Domestic Licensing of Production and Utilization Facilities” regulations to require all nuclear power plant (NPP) licensees to use in-core monitoring devices at different elevations and radial positions throughout the reactor core. The PRM was submitted by Mr. Mark Edward Leyse (the petitioner) on March 13, 2015, docketed by the NRC on April 24, 2015, and assigned Docket No. PRM-50-111. The NRC is examining the issues raised in this PRM to determine whether they should be considered in rulemaking. The NRC is not requesting public comment on this PRM at this time.

DATES: The NRC received the PRM on March 13, 2015, and docketed it on April 24, 2015.

ADDRESSES: Please refer to Docket ID NRC-2015-0124 when contacting the NRC about the availability of information for this PRM. You may obtain publicly-available information related to this PRM by any of the following methods:

• Federal Rulemaking Web site: Go to http://www.regulations.gov and search for Docket ID NRC-2015-0124. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room 01-F21, One White Flint North, 11555 Rockville Pike, Rockville, Maryland 20852.

FOR FURTHER INFORMATION CONTACT: Natreon Jordan, Office of Nuclear Reactor Regulation, U.S. Nuclear Regulatory Commission, Washington, DC 20555-0001; telephone 301-415-7410; email: Natreon.Jordan@nrc.gov.

SUPPLEMENTARY INFORMATION:

I. The Petitioner

On March 13, 2015, Mr. Mark Edward Leyse, a consultant for public interest groups and the author and co-author of papers, filed PRM-50-111 with the Commission (ADAMS Accession No. ML15113B143). In PRM-50-111, Mr. Leyse requests that the NRC amend its “Domestic Licensing of Production and Utilization Facilities” regulations to require all NPP licensees to use in-core monitoring devices at different elevations and radial positions throughout the reactor core.

Mr. Leyse previously submitted a similar PRM (PRM-50-105, ADAMS Accession No. ML12065A215) on February 28, 2012. Although only pertaining to pressurized water reactors, this earlier PRM requested that the NRC require all holders of operating licenses for NPPs to operate NPPs with in-core thermocouples at different elevations and radial positions throughout the reactor core to enable NPP operators to accurately measure a large range of in-core temperatures in NPP steady-state and transient conditions. The NRC docketed and noticed Mr. Leyse's earlier PRM, in part based upon the NRC's determination that he had demonstrated sufficient interest in the subject matters raised in PRM-50-105 (77 FR 30435; May 23, 2012). Mr. Leyse's March 13, 2015, PRM provides a more extensive description of himself and his interest in the subject matter of the PRM, as compared with the discussion he provided in PRM-50-105.

II. The Petition

The petitioner requests that the NRC amend part 50 of Title 10 of the Code of Federal Regulations, “Domestic Licensing of Production and Utilization Facilities,” to require all NPP licensees to use in-core monitoring devices at different elevations and radial positions throughout the reactor core. The petitioner states that in the event of a severe accident, “in-core temperature-monitoring devices would enable NPP operators to accurately measure in-core temperatures, providing crucial information to help them track the progression of core damage and manage the accident.”

The petitioner asserts that the in-core monitoring devices would “enable NPP operators to accurately measure a large range of in-core temperatures in steady-state and transient conditions.” The petitioner further states that, in the event of a severe accident, the in-core monitoring devices would give NPP operators crucial information to “help them track the progression of core damage and manage the accident.” The petitioner states also that by improving the monitoring of in-core temperatures, the in-core monitoring devices “could actually increase the electrical production of NPPs.” For additional information, see the PRM in ADAMS under Accession No. ML15113B143.

III. Conclusion

The NRC has determined that the PRM meets the threshold sufficiency requirements for a PRM under § 2.802, “Petition for rulemaking,” and it has been docketed as PRM-50-111.

The NRC will examine the issues raised in PRM-50-111 to determine whether they should be considered in rulemaking. The NRC is not requesting public comment on PRM-50-111 at this time.

Dated at Rockville, Maryland, this 9th day of July, 2015.
For the Nuclear Regulatory Commission.
Annette L. Vietti-Cook,
Secretary of the Commission.

[FR Doc. 2015-17442 Filed 7-15-15; 8:45 am]

BILLING CODE 7590-01-P